DEPARTMENT OF AGRICULTURE

Rural Utilities Service

7 CFR Part 1700

RIN 0572-AC23

Extension of Comment Period for Proposed Rulemaking on Substantially Underserved Trust Areas (SUTA)

AGENCY: Rural Utilities Service, USDA.

ACTION: Notice of extension of public comment period.

SUMMARY: The Rural Utilities Service (RUS) is extending until January 17, 2012, the period for public comment on the proposal to issue regulations in order to provide loans and grants to facilitate the construction, acquisition, or improvement of infrastructure projects in Substantially Underserved Trust Areas (SUTA).

DATES: Comments must be received by January 17, 2012, to ensure full consideration.

ADDRESSES: Submit comments by either of the following methods:

• Federal eRulemaking Portal at http://www.regulations.gov. Follow instructions for submitting comments for Docket ID RUS-11-AGENCY-0004.

• Postal Mail/Commercial Delivery: Please send your comment addressed to Michele Brooks, Director, Program Development and Regulatory Analysis, USDA Rural Development, 1400 Independence Avenue, STOP 1522, Room 5159, Washington, DC 20250-1522.

Additional information about the Agency and its programs is available on the Internet at http://www.rurdev.usda.gov.

FOR FURTHER INFORMATION CONTACT: Michele Brooks, Director, Program Development and Regulatory Analysis, Rural Utilities Service, Rural Development, U.S. Department of Agriculture, 1400 Independence Avenue SW., STOP 1510, Room 5135-S, Washington, DC 20250-1590. Telephone number: (202) 720-9542, Facsimile: (202) 720-1725.

SUPPLEMENTARY INFORMATION: On October 14, 2011, at 76 FR 63846, RUS published a proposed rule to issue regulations in order to provide loans and grants to facilitate the construction, acquisition, or improvement of infrastructure projects in Substantially Underserved Trust Areas (SUTA). The RUS loan, loan guarantee and grant programs act as a catalyst for economic and community development. By financing improvements to rural electric, water and waste, and telecom and broadband infrastructure, RUS also plays a big role in improving other measures of quality of life in rural America, including public health and safety, environmental protection, conservation, and cultural and historic preservation.

The 2008 Farm Bill (Pub. L. 110-246, codified at 7 U.S.C. 906f) authorized the Substantially Underserved Trust Area (SUTA) initiative. The SUTA initiative gives the Secretary of Agriculture certain discretionary authorities relating to financial assistance terms and conditions that can enhance the financing possibilities in areas that are underserved by certain RUS electric, water and waste, and telecom and broadband programs.

The proposed rule invited the public to submit comments by December 13, 2011. The RUS is now extending the period for submission of public comments until January 17, 2012.

Dated: November 5, 2011.
James R. Newby,
Acting Administrator, Rural Utilities Service.

[FR Doc. 2011-31575 Filed 12-8-2011; 8:45 am]

BILLING CODE P